DEPARTMENT OF ENERGY

Federal Energy Regulatory Commission

[Project No. 2631-007]

International Paper Company; Notice of Public Scoping Meeting for the Woronoco Hydroelectric Project on the Westfield River

September 20, 2000.

The Federal Energy Regulatory Commission (Commission) is reviewing the International Paper Company's application for a new license for the continued operation of the Woronoco Project on the Westfield River in Massachusetts. At this time, the Commission staff does not anticipate holding any public or agency scoping meetings, nor does the Commission staff anticipate conducting a site visit for the Woronoco Project. Rather, the Commission staff is issuing a Scoping Document 1 and soliciting written comments on that document, which are due on November 6, 2000.

For further information concerning the scoping process for the Woronoco Project, please contact Allan Creamer, at (202) 219-0365, or file a letter with David P. Boergers, Secretary, Federal Energy Regulatory Commission, 888 First Street, NE., Washington, DC 20426.

David P. Boergers,
Secretary.

[FR Doc. 00-24617 Filed 9-25-00; 8:45 am]

BILLING CODE 6717-01-M